DEPARTMENT OF THE INTERIOR

Bureau of Indian Affairs

[178A2100DD/AAKC001030/A0A501010.999900253G]

Notice of Service Area Designation

AGENCY: Bureau of Indian Affairs, Interior.

ACTION: Notice.

SUMMARY: This notice announces approval by the Bureau of Indian Affairs (BIA) of the designation of Kern County, California, as a service area for the Tejon Indian Tribe for purposes of operating the BIA financial assistance and/or social services programs as authorized under 25 Code of Federal Regulations (CFR) part 20.

DATES: This service area designation is effective as of May 18, 2017.

FOR FURTHER INFORMATION CONTACT: Ms. Evangeline Campbell, Chief, Division of Human Services, Office of Indian Services, Bureau of Indian Affairs, Telephone (202) 513-7622, email address: evangeline.campbell@bia.gov.

SUPPLEMENTARY INFORMATION: The Tejon Indian Tribe submitted to BIA a request with supporting documentation to designate Kern County, California, as its service area under 25 CFR 20.201. The Assistant Secretary—Indian Affairs has approved the request based on an evaluation of the information provided. This notice designates Kern County, in the State of California, as the service area appropriate for the provision of BIA financial assistance and/or social services for the Tejon Indian Tribe. The part 20 regulations have full force and effect when a tribe operates the BIA financial assistance and/or social services in the service area location. However, the Tejon Indian Tribe is not authorized to contract for or operate the Tribal Work Experience Program (TWEP) (25 CFR 20.320—20.323) and the Disaster Assistance program (25 CFR 20.327 and 20.328), as both programs remain unfunded by Congress.

Authority: 25 CFR 20.201.

Dated: May 1, 2017.
Michael S. Black,
Acting Assistant Secretary—Indian Affairs.

[FR Doc. 2017-10007 Filed 5-17-17; 8:45 am]

BILLING CODE 4337-15-P